DEPARTMENT OF COMMERCE

National Oceanic and Atmospheric Administration

50 CFR Part 648

[Docket No. 020409080-2174-05; I.D. 011003B]

RIN 0648-AP78

Fisheries of the Northeastern United States; Magnuson-Stevens Fishery Conservation and Management Act Provisions; Northeast Multispecies Fishery

AGENCY: National Marine Fisheries Service (NMFS), National Oceanic and Atmospheric Administration (NOAA), Commerce.

ACTION: Notice of continuation of regulations.

SUMMARY: The regulations contained in the interim rule published on August 1, 2002, in order to reduce overfishing, are continued for an additional 180 days, after which subsequent Secretarial action may be taken to ensure that sufficient measures to reduce overfishing stay in effect until implementation of Amendment 13 to the Northeast Multispecies Fishery Management Plan (FMP). Amendment 13 will implement rebuilding plans for several groundfish stocks and address capacity issues in the fishery. This action is necessary to comply with the Magnuson-Stevens Fishery Conservation and Management Act (Magnuson-Stevens Act) regarding the continuation of interim final regulations.

DATES: The interim final rule published August 1, 2002, at 67 FR 50292, which became effective August 1, 2002, continues in effect until superseded by a future rule action to be published in the Federal Register.

ADDRESSES: Copies of the small entity compliance guide prepared for the August 1, 2002, interim final rule are available from Patricia A. Kurkul, Regional Administrator, Northeast Regional Office, National Marine Fisheries Service, One Blackburn Drive, Gloucester, MA 01930-2298. The letter is also accessible via the Internet at http://www.nero.noaa.gov. Copies of the August 1, 2002, interim final rule, including the Environmental Assessment/Regulatory Impact Review/Final Regulatory Flexibility Analysis (EA/RIR/FRFA), and public comments and responses are available upon request from the Regional Administrator. The EA/RIR/FRFA is also accessible via the Internet at http://www.nero.nmfs.gov.

FOR FURTHER INFORMATION CONTACT: Thomas Warren, Fishery Policy Analyst, (978) 281-9347, fax (978) 281-9135, e-mail Thomas.Warren@noaa.gov.

SUPPLEMENTARY INFORMATION:

Background

On August 1, 2002, NMFS published an interim final rule (67 FR 50292), which implemented the Settlement Agreement Among Certain Parties in Conservation Law Foundation, et al. v. Evans, et al,., intended to reduce overfishing of species managed under the Northeast Multispecies FMP while the New England Fishery Management Council developed Amendment 13, which is intended to bring the FMP into compliance with the Sustainable Fisheries Act. The August 1, 2002, interim final rule was consistent with a Remedial Order issued on May 23, 2002, by the U.S. District Court for the District of Columbia (Court). The interim rule implemented restrictions consistent with the Settlement Agreement, approved by the Court. The management measures implemented by the August 1, 2002, interim rule are intended to remain in effect until implementation of Amendment 13 to the FMP, which, based on the May 23, 2002, Court Order, was required to be in effect no later than August 22, 2003.

Due to the need for additional time to address concerns related to the Northeast Fisheries Science Center's trawl survey and the new biological reference points that have been developed for multispecies stocks, NMFS and two of the plaintiffs filed a motion with the Court requesting an extension of the August 22, 2003, implementation schedule until May 1, 2004. On December 4, 2002, the Court granted an extension of the Court-ordered timeline for Amendment 13 implementation until May 1, 2004.

Pursuant to section 305(c) of the Magnuson-Stevens Act, the August 1, 2002, interim rule may remain in effect for 180 days and may be extended through publication in the Federal Register, for one additional period of 180 days, provided the public has had an opportunity to comment on the interim rule. The public was given such opportunity to comment in the form of a proposed rule before the final interim rule was published. NMFS has determined that it is necessary to continue this interim rule to reduce overfishing. Because the management measures implemented by the August 1, 2002, interim final rule were written in such a way as to be effective indefinitely, no formal regulatory action is necessary. Instead, to comply with section 305(c) of the Magnuson-Stevens Act, it is necessary only to publish in the Federal Register a Notice of Continuation of Regulations to inform the public that NMFS has decided to continue these regulations. The impacts of implementing the Settlement Agreement measures for a period of 1 year were analyzed in the Environmental Assessment completed for the August 1, 2002, interim final rule.

Because the schedule for implementation of Amendment 13 was extended until May 1, 2004, additional Secretarial action may be necessary to continue sufficient management measures to reduce overfishing beyond July 27, 2003, until the implementation of Amendment 13 (May 1, 2004). Any such action would be accomplished through additional rulemaking. Should NMFS determine that such action is unnecessary, a rule may need to be published to restore certain regulations that existed prior to publication of the August 1, 2002, interim rule.

The August 1, 2002 interim final rule was determined to be significant for purposes of Executive Order 12866.

Authority: Authority: 16 U.S.C. 1801 et seq.

Dated: January 16, 2003.
Rebecca Lent,
Deputy Assistant Administrator for Regulatory Programs, National Marine Fisheries Service.

[FR Doc. 03-1374 Filed 1-16-03; 4:05 pm]

BILLING CODE 3510-22-S